FEDERAL COMMUNICATIONS COMMISSION

Public Information Collections Approved by Office of Management and Budget

December 30, 2003.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC, 20554, (202) 418-1359 or via the Internet at plaurenz@fcc.gov.

SUPPLEMENTARY INFORMATION: OMB Control No.: 3060-0681.

OMB Approval date: 12/01/2003.

Expiration Date: 12/31/2006.

Title: Toll-Free Service Access Codes—CC Docket No. 95-155, 47 CFR Part 52, Subpart D, Sections 52.101-52.111.

Form No.: N/A.

Estimated Annual Burden: 300 responses; 4,500 total annual hours; 15 hours per respondent.

Needs and Uses: Responsible organizations (RespOrgs) who wish to make a specific toll free number unavailable must submit written requests to DSMI, the toll free data administrator. The request shall include documentation outlining the reason for the request. The information is necessary to hold RespOrgs more accountable and will decrease abuses of lag time process. It will prevent numbers from being held in unavailable status without demonstrated reasons and will make more numbers available for subscribers who need and want them.

OMB Control No.: 3060-0711.

OMB Approval date: 12/19/2003.

Expiration Date: 12/31/2006.

Title: Implementation of section 34(a)(1) of the Public Utility Holding Company Act of 1935, as amended by the Telecommunications Act of 1996, (47 CFR 1.5001-1.5007).

Form No.: N/A.

Estimated Annual Burden: 15 responses; 150 total annual hours; 10 hours per respondent.

Needs and Uses: 47 CFR 1.500-1.5007 implement section 34(a) of the Public Utility Holding Company Act. The rules provide filing requirements and procedures to expedite public utility holding company entry into the telecommunications industry. Persons seekings a determination of ETC status must file in good faith for determination by the Commission. The information will be used by the Commission to determine whether persons satisfy the statutory criteria for exempt telecommunications company status.

OMB Control No.: 3060-0719.

OMB Approval date: 12/22/2003.

Expiration Date: 12/31/2006.

Title: Quarterly Report of IntraLATA Carriers Listing Payphone Automatic Number Identifications (ANIs).

Form No.: N/A.

Estimated Annual Burden: 1,600 responses; 5,600 total annual hours; 3.5 hours per respondent.

Needs and Uses: IntraLATA carriers must submit a quarterly list of payphone ANIs to the interexchange carriers. This will facilitate resolution of disputed ANIs in the par-call compensation context. The report allows IXCs to determine which dial-around calls are made from payphones. The data, which must be maintained for at least 18 months after the close of a compensation period, will facilitate verification of disputed ANIs.

OMB Control No.: 3060-0723.

OMB Approval date: 12/01/2003.

Expiration Date: 12/31/2006.

Title: Public Disclosure of Network Information by Bell Operating Companies.

Form No.: N/A.

Estimated Annual Burden: 7 responses; 350 total annual hours; 50 hours per respondent.

Needs and Uses: Bell Operating Companies must make public disclosure of network information. This will prevent them from designing new network services or changing network technical specifications to the advantage of their own payphones.

OMB Control No.: 3060-0745.

OMB Approval date: 12/19/2003.

Expiration Date: 12/31/2006.

Title: Implementation of the Local Exchange Carrier Tariff Streamlining Provisions in the Telecommunications Act of 1996, CC Docket No. 96-187.

Form No.: N/A.

Estimated Annual Burden: 1,520 responses; 1,130 total annual hours; 1-2 average hours per respondent.

Needs and Uses: In CC Docket No. 96-187, the Commission adopted measures to streamline tariff filing requirements for local exchange carriers (LECs) of the Telecommunications Act of 1996. In order to achieve a stramlined and deregulatory enviornement for local exchanged carrier tariff filings, local exchange carriers are required to file tariffs electronically. Other carriers are permitted to file their tariffs electronically.

OMB Control No.: 3060-0775.

OMB Approval date: 12/01/2003.

Expiration Date: 12/31/2006.

Title: Separate Affiliate Requirement for Independent Local Exchange Carrier (LEC) Provision of International, Interexchange Services (47 CFR 64.1901—64.1903.

Form No.: N/A.

Estimated Annual Burden: 10 responses; 60,563 total annual hours; 6,056 hours per respondent.

Needs and Uses: The commission imposes the recordkeeping collection to ensure that independent LECs providing international, interexchange services through a separate affiliate are in compliance with the Communications Act of 1934, as amended, and with Commission policies and regulations.

OMB Control No.: 3060-0790.

OMB Approval date: 11/25/2003.

Expiration Date: 11/30/2006.

Title: Section 68.110(c)—Availability of Inside Wiring Information.

Form No.: N/A.

Estimated Annual Burden: 1,200 responses; 1,200 total annual hours; 1 hour per respondent.

Needs and Uses: 47 CFR 68.110(c) requires telephone companies to provide building owners with all available information regarding carrier installed wiring on the customer's side of the demarcation point, including copies of existing schematic diagrams and service records. The information must be provided by the telephone company upon request of the building owner or agent thereof. The information is needed so that building owners may be able to contract with an installer of their choice for maintenance and installation service, or elect to contract with the telephone company to modify existing wiring or assist with the installation of additional inside wiring.

OMB Control No.: 3060-0791.

OMB Approval date: 11/19/2003.

Expiration Date: 11/30/2006.

Title: Accounting for Judgements and Other Costs Associated with Litigation, CC Docket No. 93-240.

Form No.: N/A.

Estimated Annual Burden: 1 response; 36 total annual hours; 36 hours per respondent.

Needs and Uses: In CC Docket No. 93-240, the Commission considered the issue of the accounting rules and ratemaking policies that should apply to litigation costs incurred by carriers subject to part 32 of its rules and regulations. The Commission concluded that there should be special rules to govern the accounting treatment of federal antitrust judgements and settlements, in excess of the avoided costs of litigation, but not for litigation expenses. The Commission further concluded that these special rules should not apply to costs arising in other kinds of litigation A carrier must make a showing to receive recognition of its avoided costs of litigation.

OMB Control No.: 3060-0819.

OMB Approval date: 12/01/2003.

Expiration Date: 12/31/2006.

Title: Lifeline Assistance (Lifeline) Connection Assistance (Link-Up) Reporting Worksheet and Instructions (47 CFR 54.400-54.417).

Form No.: FCC Form 497.

Estimated Annual Burden: 18,000 responses; 63,000 total annual hours; 3-4 hours per respondent.

Needs and Uses: Eligible Telecommunications carriers are permitted to receive universal service support reimbursement for offering certain services to qualifying low-income customers. The telecommunciations carriers must file FCC Form 497 to solicit reimbursement. Collection of this data is necessary for the administor to accurately provide settlements for the low-income programs according to Commission rules.

OMB Control No.: 3060-0933.

OMB Approval date: 11/19/2003.

Expiration Date: 11/30/2006.

Title: Community Broadband Deployment Database Reporting Form.

Form No.: FCC Form 460.

Estimated Annual Burden: 150 responses; 37 total annual hours; .25 hours per respondent.

Needs and Uses: Pursuant to section 410(b) of the Communications Act of 1934, as amended, on October 8, 1999, the FCC convened a Federal-State Joint Conference on Advanced Telecommunications Services to provide a forum for cooperaticve dialogue and information exchange between and among state and federal jurisdications regarding the deployment of advanced telecommunications services. As part of this ongoing effort, a searchable on-line database of community bradband demand aggregation and deployment efforts is being established. The Collection of information from respondents is entirely voluntary.

Federal Communications Commission.
Marlene H. Dortch,
Secretary.

[FR Doc. 04-660 Filed 1-12-04; 8:45 am]

BILLING CODE 6712-01-P